DEPARTMENT OF TRANSPORTATION

Federal Aviation Administration

14 CFR Part 39

[Docket No. FAA-2025-1348; Project Identifier MCAI-2025-00159-R; Amendment 39-23176; AD 2025-21-04]

RIN 2120-AA64

Airworthiness Directives; Leonardo S.p.a. Helicopters

AGENCY: Federal Aviation Administration (FAA), DOT.

ACTION: Final rule.

SUMMARY: The FAA is superseding Airworthiness Directive (AD) 2024-09-02, which applies to all Leonardo S.p.a. Model AW169 helicopters. AD 2024-09-02 required replacing certain aft float assemblies or, as an alternative, deactivating the emergency flotation system (EFS). AD 2024-09-02 also prohibited the installation of certain forward and aft float assemblies. Since the FAA issued AD 2024-09-02, the FAA has determined that replacing additional forward and aft float assemblies is necessary. This AD retains all the actions of AD 2024-09-02 and also requires replacing certain forward and aft float assemblies within 24 months or during the next accomplishment of a certain maintenance task. The FAA is issuing this AD to address the unsafe condition on these products.

DATES: This AD is effective December 26, 2025.

The Director of the Federal Register approved the incorporation by reference of a certain publication listed in this AD as of June 5, 2024 (89 FR 44547, May 21, 2024).

ADDRESSES:

AD Docket: You may examine the AD docket at regulations.gov under Docket No. FAA-2025-1348; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-1348.

FOR FURTHER INFORMATION CONTACT: Yves Petiote, Aviation Safety Engineer, FAA, 1600 Stewart Avenue, Suite 410, Westbury, NY 11590; phone: (202) 975-4867; email: yves.petiote@faa.gov.

SUPPLEMENTARY INFORMATION:

Background

The FAA issued a notice of proposed rulemaking (NPRM) to amend 14 CFR part 39 to supersede AD 2024-09-02, Amendment 39-22744 (89 FR 44547, May 21, 2024), (AD 2024-09-02), which applied to all Leonardo S.p.a. Model AW169 helicopters. AD 2024-09-02 was prompted by EASA Emergency AD 2023-0188-E, dated October 30, 2023, (EASA Emergency AD 2023-0188-E) (also referred to as the MCAI), issued by EASA, which is the Technical Agent for the Member States of the European Union. The MCAI states EASA Emergency AD 2023-0188-E was issued to correct an unsafe condition identified as manufacturing defects in certain DART Aerospace forward float and aft float with life raft assemblies. The FAA issued AD 2024-09-02 to address non-conforming float assemblies. The unsafe condition, if not addressed, could result in failure of a float assembly during an emergency landing on water and could prevent a timely egress from the helicopter, which could result in injury to helicopter occupants.

The NPRM was published in the Federal Register on July 1, 2025 (90 FR 28237). The NPRM was prompted by a determination that replacing certain forward and aft float assemblies within 24 months or during the next accomplishment of maintenance task 95-24 or 95-25 of the Leonardo air vehicle maintenance planning information 69-B-05-21-00-00A-028A-A is necessary to address the unsafe condition. In the NPRM, the FAA proposed to retain all of the requirements of AD 2024-09-02 and also proposed to require the long-term requirement of replacing certain forward and aft float assemblies and proposed to revise the Cost of Compliance paragraph to include this cost. Additionally, the NPRM updated the part cost for the aft float assembly, and added the part cost of the forward float assembly.

Furthermore, the preamble to AD 2024-09-02 explained that the FAA considered the requirements “interim action” and was considering further rulemaking. The FAA has now determined that further rulemaking is indeed necessary. This AD follows from that determination.

You may examine the MCAI in the AD docket at regulations.gov under Docket No. FAA-2025-1348.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2023-0188-E, which the Director of the Federal Register approved for incorporation by reference as of June 5, 2024 (89 FR 44547, May 21, 2024). EASA Emergency AD 2023-0188-E requires removing each affected float assembly and sending it to Leonardo and replacing it with a serviceable float assembly. As an alternative, EASA Emergency AD 2023-0188-E allows deactivating the EFS by locking the float auto breaker in EDCU [enhanced display control unit] 1 or 2; pulling, locking, and tagging the breaker from the overhead circuit breaker panel; and installing a decal in clear view of the pilot. EASA Emergency AD 2023-0188-E also prohibits installing an affected float assembly on a helicopter.

This material is reasonably available because the interested parties have access to it through their normal course of business or by the means identified in the ADDRESSES section.

Costs of Compliance

The FAA estimates that this AD will affect 23 helicopters of U.S. registry. Labor rates are estimated at $85 per hour. Based on these numbers, the FAA estimates the following costs to comply with this AD.

Replacing an affected float assembly takes 2 work-hours and parts cost up to $38,000 for an aft float with life raft assembly and up to $19,000 for a forward float assembly, for an estimated cost of up to $114,170 per helicopter (up to two aft and up to two forward float assemblies) and $2,625,910 for the U.S. fleet.

Deactivating the EFS takes about 1 work-hour, for an estimated cost of $85 per helicopter and $1,955 for the U.S. fleet.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2024-09-02, Amendment 39-22744 (89 FR 44547, May 21, 2024); and

b. Adding the following new airworthiness directive:

2025-21-04 Leonardo S.p.a.: Amendment 39-23176; Docket No. FAA-2025-1348; Project Identifier MCAI-2025-00159-R.

(a) Effective Date

This airworthiness directive (AD) is effective December 26, 2025.

(b) Affected ADs

This AD replaces AD 2024-09-02, Amendment 39-22744 (89 FR 44547, May 21, 2024).

(c) Applicability

This AD applies to Leonardo S.p.a. Model AW169 helicopters, certificated in any category.

(d) Subject

Joint Aircraft System Component (JASC) Code 2560, Emergency Equipment; and 2564, Life Raft.

(e) Unsafe Condition

This AD was prompted by manufacturing defects in certain forward and aft float assemblies. The FAA is issuing this AD to address non-conforming float assemblies. The unsafe condition, if not addressed, could result in failure of a float assembly during an emergency landing on water and could prevent a timely egress from the helicopter, which could result in injury to helicopter occupants.

(f) Compliance

Comply with this AD within the compliance times specified, unless already done.

(g) Requirements

Except as specified in paragraphs (h) and (i) of this AD: Comply with all required actions and compliance times specified in, and in accordance with, European Union Aviation Safety Agency (EASA) Emergency AD 2023-0188-E, dated October 30, 2023 (EASA Emergency AD 2023-0188-E).

(h) Exceptions to EASA Emergency AD 2023-0188-E

(1) Where EASA Emergency AD 2023-0188-E requires compliance in terms of flight hours, this AD requires using hours time-in-service.

(2) Where EASA Emergency AD 2023-0188-E refers to its effective date, this AD requires using the effective date of this AD, except for Group 1 helicopters.

(3) Where Table 1 of EASA Emergency AD 2023-0188-E refers to its effective date, for Group 1 helicopters, this AD requires using the effective date of June 5, 2024 (the effective date of AD 2024-09-02).

(4) Where Table 1 of EASA Emergency AD 2023-0188-E refers to “Leonardo Aircraft Maintenance Manual Data Module (DM) 69-A-05-21-00-00A-028A-A”, this AD requires replacing that text with “Leonardo air vehicle maintenance planning information 69-B-05-21-00-00A-028A-A”.

(5) Where the service information referenced in paragraph (1) of EASA Emergency AD 2023-0188-E specifies sending a removed float assembly to Leonardo, this AD does not require that action.

(6) This AD does not adopt the “Remarks” section of EASA AD 2023-0188-E.

(i) No Reporting Requirement

Although the service information referenced in EASA Emergency AD 2023-0188-E specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Yves Petiote, Aviation Safety Engineer, FAA, 1600 Stewart Avenue, Suite 410, Westbury, NY 11590; phone: (202) 975-4867; email yves.petiote@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on June 5, 2024 (89 FR 44547, May 21, 2024).

(i) European Union Aviation Safety Agency (EASA) Emergency AD 2023-0188-E, dated October 30, 2023.

(ii) [Reserved]

(4) For EASA material identified in this AD, contact EASA, Konrad-Adenauer-Ufer 3, 50668 Cologne, Germany; telephone +49 221 8999 000; email: ADs@easa.europa.eu; website: easa.europa.eu. You may find this material on the EASA website at ad.easa.europa.eu.

(5) You may view this material at the FAA, Office of the Regional Counsel, Southwest Region, 10101 Hillwood Parkway, Room 6N-321, Fort Worth, TX 76177. For information on the availability of this material at the FAA, call (817) 222-5110.

(6) You may view this material at the National Archives and Records Administration (NARA). For information on the availability of this material at NARA, visit www.archives.gov/federal-register/cfr/ibr-locations or email fr.inspection@nara.gov.

Issued on October 17, 2025.
Steven W. Thompson,
Acting Deputy Director, Compliance & Airworthiness Division, Aircraft Certification Service.

[FR Doc. 2025-20451 Filed 11-19-25; 8:45 am]

BILLING CODE 4910-13-P